DEPARTMENT OF ENERGY

Federal Energy Regulatory Commission

Combined Notice of Filings

Take notice that the Commission has received the following Natural Gas Pipeline Rate and Refund Report filings:

Filings Instituting Proceedings

Docket Numbers: CP18-2-000.

Applicants: Southern Natural Gas Company, L.L.C.

Description: Application for Authorization of Abandonment for Rate Schedule X-72.

Filed Date: 10/3/17.

Accession Number: 20171003-5096.

Comments Due: 5 p.m. ET 10/24/17.

Docket Numbers: CP18-3-000.

Applicants: Tennessee Gas Pipeline Company, L.L.C., et al.

Description: Joint Abbreviated Application to Abandon and Acquire Facilities and Related Authorizations.

Filed Date: 10/3/17.

Accession Number: 20171003-5169.

Comments Due: 5 p.m. ET 10/24/17.

Docket Numbers: RP18-15-000.

Applicants: Natural Gas Pipeline Company of America.

Description: § 4(d) Rate Filing: Union Electric Negotiated Rate Filing RP18- to be effective 11/1/2017.

Filed Date: 10/4/17.

Accession Number: 20171004-5025.

Comments Due: 5 p.m. ET 10/16/17.

Docket Numbers: RP18-16-000.

Applicants: Natural Gas Pipeline Company of America.

Description: § 4(d) Rate Filing: CNE Gas Supply Negotiated Rate Filing RP18- to be effective 11/1/2017.

Filed Date: 10/4/17.

Accession Number: 20171004-5028.

Comments Due: 5 p.m. ET 10/16/17.

Docket Numbers: RP18-17-000.

Applicants: Rockies Express Pipeline LLC.

Description: § 4(d) Rate Filing: Neg Rate 10-04-2017 Encana to be effective 10/4/2017.

Filed Date: 10/4/17.

Accession Number: 20171004-5040.

Comments Due: 5 p.m. ET 10/16/17.

Docket Numbers: RP18-18-000.

Applicants: Natural Gas Pipeline Company of America.

Description: § 4(d) Rate Filing: Amendment to MacQuarie NRAgreement to be effective 10/4/2017.

Filed Date: 10/4/17.

Accession Number: 20171004-5048.

Comments Due: 5 p.m. ET 10/16/17.

Docket Numbers: RP18-19-000.

Applicants: Iroquois Gas Transmission System, L.P.

Description: § 4(d) Rate Filing: 100417 Negotiated Rates—Mercuria Energy America, Inc. R-7540-02 to be effective 11/1/2017.

Filed Date: 10/4/17.

Accession Number: 20171004-5106.

Comments Due: 5 p.m. ET 10/16/17.

Docket Numbers: RP18-20-000.

Applicants: High Island Offshore System, L.L.C.

Description: § 4(d) Rate Filing: Amendment to FT-2 Contract to be effective 11/1/2017.

Filed Date: 10/5/17.

Accession Number: 20171005-5022.

Comments Due: 5 p.m. ET 10/17/17.

Docket Numbers: RP18-21-000.

Applicants: Gulf South Pipeline Company, LP.

Description: § 4(d) Rate Filing: Amendments to Neg Rate Agmts (FPL 41618-30, 41619-16) to be effective 10/5/2017.

Filed Date: 10/5/17.

Accession Number: 20171005-5028.

Comments Due: 5 p.m. ET 10/17/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2017.
Nathaniel J. Davis, Sr.,
Deputy Secretary.

[FR Doc. 2017-22277 Filed 10-13-17; 8:45 am]

BILLING CODE 6717-01-P